DEPARTMENT OF ENERGY

Federal Energy Regulatory Commission

[Docket No. EL14-3-000]

Idaho Power Company; Notice of Initiation of Proceeding and Refund Effective Date

On November 13, 2013, the Commission issued an order that initiated a proceeding in Docket No. EL14-3-000, pursuant to section 206 of the Federal Power Act (FPA), 16 U.S.C. 824e (2006), to determine the justness and reasonableness of the market-based rates proposed by Idaho Power Company. Idaho Power Company, 145 FERC ¶ 61,122 (2013).

The refund effective date in Docket No. EL14-3-000, established pursuant to section 206(b) of the FPA, will be the date of publication of this notice in the Federal Register.

Dated: November 14, 2013.
Nathaniel J. Davis, Sr.,
Deputy Secretary.

[FR Doc. 2013-28016 Filed 11-21-13; 8:45 am]

BILLING CODE 6717-01-P